DEPARTMENT OF HEALTH AND HUMAN SERVICES

Centers for Medicare & Medicaid Services

CMS-2087-PN

RIN 0938-AK91

Medicaid Program; State Allotments for Payment of Medicare Part B Premiums for Qualifying Individuals: Federal Fiscal Year 2001

AGENCY: Centers for Medicare & Medicaid Services (CMS), HHS.

ACTION: Proposed notice.

SUMMARY: The Social Security Act provides for the Medicaid program to pay all or part of the Medicare Part B premiums (for months during the period beginning with January 1998, and ending with December 2002) for two specific eligibility groups of low-income Medicare beneficiaries, referred to as Qualifying Individuals. This notice announces the proposed allotments that would be available for State agencies to pay Medicare Part B premiums for these eligibility groups for Federal fiscal year 2001.

DATES: We will consider comments if we receive them at the appropriate address, as provided below, no later than 5 p.m. on March 26, 2002.

If the proposed allotments are adopted as final, they will be available for expenditures made during the Federal fiscal year 2001 (beginning October 1, 2000).

ADDRESSES: Mail written comments (1 original and 3 copies) to the following address: Centers for Medicare & Medicaid Services, Department of Health and Human Services, Attention: CMS-2087-PN, PO Box 8010,Baltimore, MD 21244-8010.

To insure that mailed comments are received in time for us to consider them, please allow for possible delays in delivering them.

If you prefer, you may deliver your written comments (1 original and 3 copies) to one of the following addresses: Room 443-G, Hubert H. Humphrey Building, 200 Independence Avenue, SW., Washington, DC 20201, or Room C5-16-03, 7500 Security Boulevard, Baltimore, MD 21244-8010.

Comments mailed to the above addresses may be delayed and received too late for us to consider them.

Because of staff and resource limitations, we cannot accept comments by facsimile (FAX) transmission. In commenting, please refer to file code CMS-2087-PN. Comments received timely will be available for public inspection as they are received, generally beginning approximately 3 weeks after publication of a document, at 7500 Security Blvd, Baltimore, Maryland 21244, Monday through Friday of each week from 8:30 to 5 p.m. (phone: (410) 786-9994).

FOR FURTHER INFORMATION CONTACT: Miles McDermott, (410) 786-3722.

SUPPLEMENTARY INFORMATION:

I. Background

A. Before the Balanced Budget Act of 1997

Before the enactment of the Balanced Budget Act of 1997 (BBA), section 1902(a)(10)(E) of the Social Security Act (the Act) specified that a Medicaid State plan must provide for Medicare cost-sharing for three eligibility groups of low-income Medicare beneficiaries. These three groups included Qualified Medicare Beneficiaries (QMBs), Specified Low-income Medicare Beneficiaries (SLMBs), and Qualified Disabled and Working Individuals (QDWIs).

A QMB is an individual entitled to Medicare Part A with income at or below the Federal poverty level and resources below $4,000 for an individual and $6,000 for a couple. An SLMB is an individual who meets the QMB criteria, except that his or her income is between a State-established level (at or below the Federal poverty level) and 120 percent of the Federal poverty level. A QDWI is an individual who is entitled to enroll in Medicare Part A, whose income does not exceed 200 percent of the Federal poverty level for a family of the size involved, whose resources do not exceed twice the amount allowed under the Supplementary Security Income (SSI) program, and who is not otherwise eligible for Medicaid. The definition of Medicare cost-sharing at section 1905(p)(3) of the Act includes payment for premiums for Medicare Part B.

B. After the Balanced Budget Act of 1997

Section 4732 of the BBA amended section 1902(a)(10)(E) of the Act to require States to provide for Medicaid payment of all or part of the Medicare Part B premiums, during the period beginning January 1998 and ending December 2002, for selected members of two eligibility groups of low-income Medicare beneficiaries, referred to as Qualifying Individuals (QIs).

Under section 1902(a)(10)(E)(iv)(I) of the Act, State agencies are required to pay the full amount of the Medicare Part B premium for selected QIs who would be QMBs except that their income level is at least 120 percent but less than 135 percent of the Federal poverty level for a family of the size involved. These individuals cannot otherwise be eligible for medical assistance under the approved State Medicaid plan.

The second group of QIs, under section 1902(a)(10)(E)(iv)(II) of the Act, includes Medicare beneficiaries who would be QMBs except that their income is at least 135 percent but less than 175 percent of the Federal poverty level for a family of the size involved. These QIs may not be otherwise eligible for Medicaid under the approved State plan, but are eligible for a portion of Medicare cost-sharing consisting only of a percentage of the increase in the Medicare Part B premium attributable to the shift of Medicare home health coverage from Part A to Part B (as provided in section 4611 of the BBA).

Section 4732(c) of the BBA also added section 1933 of the Act, which specifies the provisions for State coverage of the Medicare cost-sharing for additional low-income Medicare beneficiaries.

Section 1933(a) of the Act specifies that a State agency must provide, through a State plan amendment, for medical assistance to pay for the cost of Medicare cost-sharing on behalf of QIs who are selected to receive assistance.

Section 1933(b) of the Act sets forth the rules that State agencies must follow in selecting QIs and providing payment for Medicare Part B premiums. Specifically, the State agency must permit all QIs to apply for assistance and must select individuals on a first-come, first-served basis in the order in which they apply. Under section 1933(b)(2)(B) of the Act, when selecting persons who will receive assistance in calendar years after 1998, State agencies must give preference to those individuals who received assistance as QIs, QMBs, SLMBs, or QDWIs in the last month of the previous year and who continue to be, or become, QIs. Under section 1933(b)(4), persons selected to receive assistance in a calendar year are entitled to receive assistance for the remainder of the year, but not beyond, as long as they continue to qualify. The fact that an individual is selected to receive assistance at any time during the year does not entitle the individual to continued assistance for any succeeding year. Because the State's allotment is limited by law, section 1933(b)(3) of the Act provides that the State agency must limit the number of QIs so that the amount of assistance provided during the year is approximately equal to the State's allotment for that year.

Section 1933(c) of the Act limits the total amount of Federal funds available for payment of Part B premiums each fiscal year and specifies the formula to be used to determine an allotment for each State from this total amount. For State agencies that execute a State plan amendment in accordance with section 1933(a) of the Act, a total of $1.5 billion was allocated over 5 years as follows: $200 million in FY 1998; $250 million in FY 1999; $300 million in FY 2000; $350 million in FY 2001; and $400 million in FY 2002.

The Federal matching rate for Medicaid payment of Medicare Part B premiums for QIs is 100 percent for expenditures up to the amount of the State's allotment. No Federal matching funds are available for expenditures in excess of the State's allotment amount. Administrative expenses associated with the payment of Medicare Part B premiums for QIs remain at the 50 percent matching level and may not be taken from the State's allotment.

The amount available for each fiscal year is to be allocated among States according to the formula set forth in section 1933(c)(2) of the Act. The formula provides for an amount to each State agency that is to be based on each State's share of the Secretary's estimate of the ratio of—

(1) An amount equal to the sum of the following: (a) Twice the total number of individuals who meet all but the income requirements for QMBs, whose incomes are at least 120 percent but less than 135 percent of the Federal poverty level, and who are not otherwise eligible for Medicaid; and (b) The total number of individuals in the State who meet all but the income requirements for QMBs, whose incomes are at least 135 percent but less than 175 percent of the Federal poverty level, and who are not otherwise eligible for Medicaid; to

(2) The sum of all of these individuals under item (1) for all eligible States.

II. Provisions of This Proposed Notice

This notice announces the proposed allotments to be made available to individual States for Federal fiscal year 2001 for the Medicaid payment of Medicare Part B premiums for QIs identified under sections 1902(a)(10)(E)(iv)(I) and (II) of the Act. The formula used to calculate these allotments was described in detail in the January 26, 1998 Federal Register (63 FR 3752, 3754) and, except for the incorporation of the latest data, has been used here without changes.

FY 2001 State Allotments for Payment of Part B Premiums
[Under Sec. 4732 of the BBA of 1997]
State | (in thousands): (a) M1¹ | (in thousands): (b) M2² | (in thousands): (c) [2 × (a)] + (b) | State share of (c) (percent) | State FY2001 allocation (dollars in thousands)
AK | 1 | 4 | 6 | 0.10 | 340
AL | 28 | 74 | 130 | 2.10 | 7,357
AR | 21 | 46 | 88 | 1.42 | 4,980
AZ | 21 | 66 | 108 | 1.75 | 6,112
CA | 108 | 310 | 526 | 8.50 | 29,766
CO | 10 | 27 | 47 | 0.76 | 2,660
CT | 8 | 57 | 73 | 1.18 | 4,131
DC | 2 | 5 | 9 | 0.15 | 509
DE | 6 | 10 | 22 | 0.36 | 1,245
FL | 113 | 282 | 508 | 8.21 | 28,747
GA | 22 | 67 | 111 | 1.79 | 6,281
HI | 4 | 14 | 22 | 0.36 | 1,245
IA | 17 | 59 | 93 | 1.50 | 5,263
ID | 6 | 19 | 31 | 0.50 | 1,754
IL | 38 | 148 | 224 | 3.62 | 12,676
IN | 41 | 80 | 162 | 2.62 | 9,167
KS | 10 | 40 | 60 | 0.97 | 3,395
KY | 20 | 65 | 105 | 1.70 | 5,942
LA | 24 | 67 | 115 | 1.86 | 6,508
MA | 34 | 79 | 147 | 2.38 | 8,319
MD | 26 | 52 | 104 | 1.68 | 5,885
ME | 7 | 16 | 30 | 0.49 | 1,698
MI | 36 | 138 | 210 | 3.40 | 11,884
MN | 23 | 46 | 92 | 1.49 | 5,206
MO | 24 | 78 | 126 | 2.04 | 7,130
MS | 15 | 44 | 74 | 1.20 | 4,188
MT | 4 | 11 | 19 | 0.31 | 1,075
NC | 46 | 111 | 203 | 3.28 | 11,487
ND | 5 | 13 | 23 | 0.37 | 1,302
NE | 10 | 34 | 54 | 0.87 | 3,056
NH | 2 | 12 | 16 | 0.26 | 905
NJ | 35 | 101 | 171 | 2.76 | 9,677
NM | 7 | 25 | 39 | 0.63 | 2,207
NV | 6 | 23 | 35 | 0.57 | 1,981
NY | 94 | 236 | 424 | 6.86 | 23,994
OH | 51 | 161 | 263 | 4.25 | 14,883
OK | 23 | 61 | 107 | 1.73 | 6,055
OR | 8 | 39 | 55 | 0.89 | 3,112
PA | 81 | 195 | 357 | 5.77 | 20,202
RI | 9 | 18 | 36 | 0.58 | 2,037
SC | 28 | 61 | 117 | 1.89 | 6,621
SD | 5 | 13 | 23 | 0.37 | 1,302
TN | 36 | 58 | 130 | 2.10 | 7,357
TX | 81 | 223 | 385 | 6.22 | 21,787
UT | 7 | 18 | 32 | 0.52 | 1,811
VA | 31 | 87 | 149 | 2.41 | 8,432
VT | 3 | 8 | 14 | 0.23 | 792
WA | 22 | 48 | 92 | 1.49 | 5,206
WI | 21 | 95 | 137 | 2.22 | 7,753
WV | 13 | 42 | 68 | 1.10 | 3,848
WY | 3 | 7 | 13 | 0.21 | 736
Total | 1296 | 3593 | 6185 | 100.00 | 350,000
¹ Three-year average (1998-2000) of number of Medicare beneficiaries in State who are not enrolled in Medicaid but whose incomes are at least 120% but less than 135% of FPL
² Three-year average (1998-2000) of number of Medicare beneficiaries in State who are not enrolled in Medicaid but whose incomes are at least 135% but less than 175% of FPL

III. Response to Comments

Because of the large number of items of correspondence we normally receive on Federal Register documents published for comment, we are not able to acknowledge or respond to them individually. We will consider all comments we receive by the date and time specified in the DATES section of this notice, and, if we proceed with a subsequent document, we will respond to the major comments in that document.

IV. Regulatory Impact Statement

We have examined the impact of this proposed notice as required by Executive Order 12866 and the Regulatory Flexibility Act (RFA) (Pub. L. 96-354). Executive Order 12866 directs agencies to assess all costs and benefits of available regulatory alternatives and, when regulation is necessary, to select regulatory approaches that maximize net benefits (including potential economic, environmental, public health and safety effects; distributive impacts; and equity). A regulatory impact statement (RIA) must be prepared for major rules with economic effects of $100 million or more annually. Under 5 U.S.C. 804, we have determined this to be a major rule.

The RFA requires agencies to analyze options for regulatory relief for small entities. For purposes of the RFA, States and individuals are not considered to be small entities.

This proposed notice would allocate, among the States, Federal funds to provide Medicaid payment for Medicare Part B premiums for QIs. The total amount of Federal funds available during a Federal fiscal year and the formula for determining individual State allotments are specified in the law. Because the formula for determination of State allotments is specified in the statute, there were not other options to be considered. Therefore, we have applied the statutory formula for the State allotments except for the use of specified data. Because the data specified in the law were not currently available, we have used comparable data from the U.S. Census Bureau on the number of possible QIs in the States, as described in detail in the January 26, 1998 Federal Register. These new allotments for FY 2001 incorporate the latest data from the Census Bureau covering 1998 through 2000, as specified in the footnotes to the preceding table.

We believe the statutory provisions that would be implemented in this proposed notice would have a positive effect on States and individuals. Federal funding at the 100 percent matching rate is available for Medicare cost-sharing for Medicare Part B premium payments for selected QIs, and a greater number of low-income Medicare beneficiaries would be eligible to have their Medicare Part B premiums paid under Medicaid.

Section 1102(b) of the Act requires us to prepare a regulatory impact analysis for any notice that may have a significant impact on the operations of a substantial number of small rural hospitals. Such an analysis must conform to the provisions of section 603 of the RFA. For purposes of section 1102(b) of the Act, we define a small rural hospital as a hospital that is located outside a Metropolitan Statistical Area and has fewer than 100 beds.

Section 605(b) of the RFA states that preparing an impact analysis is not necessary if the agency certifies that the rule will not have a significant economic impact on a substantial number of small entities. Because this proposed notice would simply provide notice of funding ceilings, as determined under the statute, and is not proposing any new requirements, it would not have a significant impact on small entities or on the operations of a substantial number of small rural hospitals. Therefore, we are not preparing analyses for either the RFA or section 1102(b) of the Act.

Section 202 of the Unfunded Mandate Reform Act of 1995, Public Law 104-4, also requires that agencies assess anticipated costs and benefits before issuing any proposed rule and a final rule preceded by a proposed rule that may result in an expenditure in any one year by State, local or tribal governments, in the aggregate, or any the private sector, or $110 million or more. This notice would have no consequential effect of the governments mentioned or on the private sector.

In accordance with the provisions of Executive Order 12866, this notice was reviewed by the Office of Management and Budget.

We have reviewed this notice under the threshold criteria of Executive Order 13132, Federalism. Because this proposed notice would simply provide notice of funding ceilings, as determined under the statute, and is not proposing any new requirements, we have determined that this proposed notice would not significantly affect the rights, roles, and responsibilities of States.

Authority: Sections 1902(a)(10)(E) and 1933 of the Social Security Act (42 U.S.C. 1396a(a)(10)(E) and 1396x).

(Catalog of Federal Domestic Assistance Program No. 93.778, Medical Assistance Program)
Dated: January 14, 2002.
Thomas A. Scully,
Administrator, Centers for Medicare & Medicaid, Services.

[FR Doc. 02-1304 Filed 1-24-02; 8:45 am]

BILLING CODE 4120-01-P